Title 3—

The President

Proclamation 10439 of September 2, 2022

Labor Day, 2022

By the President of the United States of America

A Proclamation

American workers have built our communities, laid the foundation for our democracy, and powered the engine of our prosperity. From the factory hands who forged an Arsenal of Democracy and helped beat back fascism during World War II, to the immigrants who assembled the transcontinental railroad that connected America's coasts, to the health care professionals and first responders who mobilized selflessly during the pandemic to save countless lives, American workers have guided us through our most difficult moments and delivered some of our Nation's greatest triumphs.

Unions have been the voice of American workers, guiding their path to power as a major force in our society. Unions fought for higher wages and family-supporting benefits, established vital health and safety standards, secured an 8-hour work day, eradicated child labor, guarded against discrimination and harassment, and bargained for every worker's fair share of economic prosperity. They give workers a say in critical decisions affecting their lives and livelihoods and play a transformative role in shaping the future of our democracy. The middle class built America, and unions built the middle class. When organized labor wins, families win. We all win.

I said from the start that I would be the most pro-worker and pro-union President in American history, and I am keeping that promise. When I took office, I put money in the pockets of hardworking Americans with the American Rescue Plan, offering families much-needed breathing room. I have now enacted a bold, long-term economic agenda that will lead to historic investments in our Nation and our workers: the Bipartisan Infrastructure Law, the CHIPS and Science Act, and the Inflation Reduction Act. My economic agenda is a once-in-a-generation blueprint to rebuild America, outcompete every other economy in the world, and create thousands of good-paying and clean-manufacturing jobs. We are putting plumbers, pipefitters, electrical workers, steel workers, and so many others to work on a range of projects—from rebuilding our infrastructure to manufacturing semiconductors, electric vehicles, wind turbines, and solar panels. Many of these jobs will be union jobs.

This is just the beginning. To give workers more power and raise wages, I signed an Executive Order calling for a ban on unfair non-compete agreements that hinder people from building on their experience to take new jobs in their industries. I created a White House Task Force on Worker Organizing and Empowerment with the aim of identifying new ways the executive branch can facilitate the organizing of workers. I also appointed a former union president and card-carrying union member to serve this country as the Secretary of Labor.

Still, there is more we can do. I believe every worker should have a free and fair choice to organize and bargain collectively with their employer without coercion or intimidation. That is why I called on the Congress to finally pass the Richard L. Trumka Protecting the Right to Organize Act and the Public Service Freedom to Negotiate Act, which will make it easier for private-sector, State, and local government workers to join a union and bargain collectively.

As our economy recovers and rebuilds, we must build it from the bottom up and the middle out—not the top down—so everyone benefits. Our Nation continues to fall short of its promise to deliver equal opportunity to workers of color and women, among others, and we can do more to ensure that good-paying jobs are accessible to everyone. Only when all workers have a strong voice in their wages, benefits, and job treatment can we start to change how we value their labor. Only then can we begin to reward work and not just wealth.

I have had the honor of meeting workers of every stripe. I have visited longshore workers in California, firefighters in Colorado, transit workers in New Jersey, welders in Wisconsin, and teachers in Virginia, among many others. I also welcomed frontline worker-organizers into the Oval Office. Whenever I meet members of America's labor community—dedicated women and men who derive purpose from their work—I am reminded of something my father used to tell me: “A job is about more than a paycheck—it is about dignity and respect.”

This Labor Day, let us honor those trailblazers who have fought for the rights of working people. Let us stand in solidarity with all workers and strengthen their ability to organize and bargain with employers. Let us give thanks to all of America's workers who build this Nation and pave our future.

NOW, THEREFORE, I, JOSEPH R. BIDEN JR., President of the United States of America, by virtue of the authority vested in me by the Constitution and the laws of the United States, do hereby proclaim September 5, 2022, as Labor Day. I call upon all public officials and people of the United States to observe this day with appropriate programs, ceremonies, and activities that honor the energy and innovation of working Americans.

IN WITNESS WHEREOF, I have hereunto set my hand this second day of September, in the year of our Lord two thousand twenty-two, and of the Independence of the United States of America the two hundred and forty-seventh.

[FR Doc. 2022-19531

Filed 9-7-22; 8:45 am]

Billing code 3395-F2-P